DEPARTMENT OF THE INTERIOR

Fish and Wildlife Service

[FWS-R4-R-2008-N0269; 40136-1265-0000-S3]

Swanquarter National Wildlife Refuge, Hyde County, NC

AGENCY: Fish and Wildlife Service, Interior.

ACTION: Notice of availability: Final comprehensive conservation plan and finding of no significant impact.

SUMMARY: We, the U.S. Fish and Wildlife Service (Service), announce the availability of our final comprehensive conservation plan (CCP) and finding of no significant impact (FONSI) for Swanquarter National Wildlife Refuge (NWR). In the final CCP, we describe how we will manage this refuge for the next 15 years.

ADDRESSES: A copy of the CCP may be obtained by writing to: Swanquarter NWR, 38 Mattamuskeet Road, Swan Quarter, NC 27885. The CCP may also be accessed and downloaded from the Service's Website: http://southeast.fws.gov/planning/.

FOR FURTHER INFORMATION CONTACT: Bruce Freske, Refuge Manager; Telephone: 252/926-4021.

SUPPLEMENTARY INFORMATION:

Introduction

With this notice, we finalize the CCP process for Swanquarter NWR. We started this process through a notice in the Federal Register on November 3, 2000 (65 FR 66256). For more about the process, please see that notice.

Swanquarter NWR is on the Pamlico Sound in Hyde County, North Carolina, and was established by Presidential Order on June 23, 1932. The Service has acquired all of the property within the refuge's acquisition boundary. The refuge consists of 16,411 acres of saltmarsh islands and forested wetlands interspersed with potholes, creeks, and drains. Marsh vegetation is dominated by black needlerush and sawgrass. The mainland is forested by loblolly pine, pond pine, and bald cypress. Approximately 8,800 acres of the refuge have been designated a wilderness area. An additional 27,082 acres of adjacent, non-refuge open water are closed by Presidential Proclamation to the taking of migratory birds.

Swanquarter NWR is in the South Atlantic Coastal Plain Ecosystem and is part of the migration corridor for migratory birds that use the Atlantic Flyway. Wildlife species of management concern at the refuge include the American black duck, lesser scaup, canvasback, redhead, surf scoter, seaside sparrow, sharp-tailed sparrow, brown-headed nuthatch, black-throated green warbler, black rail, yellow rail, clapper rail, Forster's tern, peregrine falcon, bald eagle, osprey, black bear, red wolf, Carolina pygmy rattlesnake, and the American alligator. The white-tailed deer is also a resident game species.

We announce our decision and the availability of the final CCP and FONSI for Swanquarter NWR in accordance with National Environmental Policy Act (NEPA) [40 CFR 1506.6(b)] requirements. We completed a thorough analysis of impacts on the human environment, which we included in the Draft CCP/EA.

The CCP will guide us in managing and administering Swanquarter NWR for the next 15 years. Alternative B, as we described in the final CCP, is the foundation for the CCP.

Background

The National Wildlife Refuge System Improvement Act of 1997 (16 U.S.C. 668dd-668ee) (Improvement Act), which amended the National Wildlife Refuge System Administration Act of 1966, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Comments

We released the draft comprehensive conservation plan and environmental assessment (Draft CCP/EA) to the public, announcing and requesting comments in a notice of availability in the Federal Register on July 3, 2008 (73 FR 38242). All comments were considered and thoroughly evaluated. Responses to the comments are contained in Appendix D of the final CCP.

Selected Alternative

After considering the comments we received, we have selected Alternative B for implementation. Under Alternative B, the preferred alternative, the refuge will continue to provide habitat for migratory birds, threatened and endangered species, and other waterfowl and fauna. Surveying and monitoring will be expanded to obtain baseline data on other species, and will include mammals, reptiles, amphibians, and fish. The refuge will monitor the effects of management activities on both flora and fauna and adapt as needed. The public use and environmental education and outreach programs will be increased to include conducting two to ten programs for local school groups. Fishing and hunting opportunities will be expanded by increasing the number of use days and introducing deer hunting with archery equipment. An interpretive trail or boardwalk will be developed to provide greater access to the public.

Authority: This notice is published under the authority of the National Wildlife Refuge System Improvement Act of 1997, Public Law 105-57.

Dated: October 6, 2008.
Cynthia K. Dohner,
Acting Regional Director.

[FR Doc. E8-30273 Filed 12-18-08; 8:45 am]

BILLING CODE 4310-55-P